NUCLEAR REGULATORY COMMISSION

[NRC-2020-0256]

Plant-Specific, Risk-Informed Decisionmaking for Inservice Inspections of Piping

AGENCY: Nuclear Regulatory Commission.

ACTION: Draft regulatory guide; request for comment.

SUMMARY: The U.S. Nuclear Regulatory Commission (NRC) is re-issuing for public comment draft regulatory guide (DG), DG-1288 (Revision 1), “Plant-Specific, Risk-Informed Decisionmaking for Inservice Inspection of Piping.” This proposed guide is Revision 2 of regulatory guide (RG) 1.178, “An Approach for Plant-Specific, Risk-Informed Decisionmaking for Inservice Inspection of Piping.” It incorporates information to be consistent with the terminology and defense-in-depth philosophy provided in RG 1.174, “An Approach for Using Probabilistic Risk Assessment in Risk-Informed Decisions on Plant-Specific Changes to the Licensing Basis,” as well as to endorse the American Society of Mechanical Engineers (ASME) Code Case N-716-1, “Alternative Classification and Examination Requirements, Section XI, Division 1.”

DATES: Submit comments by January 13, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking website: Go to https://www.regulations.gov and search for Docket ID NRC-2020-0256. Address questions about Docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on accessing information and submitting comments, see “Obtaining Information and Submitting Comments” in the SUPPLEMENTARY INFORMATION section of this document.

FOR FURTHER INFORMATION CONTACT: Zeechung Wang, telephone: 301-415-1686, email: Zeechung.Wang@nrc.gov, or Harriet Karagiannis, telephone: 301-415-2493, email: Harriet.Karagiannis@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2020-0256 when contacting the NRC about the availability of information regarding this action. You may obtain publicly available information related to this action, by any of the following methods:

• Federal Rulemaking website: Go to https://www.regulations.gov and search for Docket ID NRC-2020-0256.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents is currently closed. You may submit your request to the PDR via email at PDR.Resource@nrc.gov or call 1-800-397-4209 between 8:00 a.m. and 4:00 p.m. (EST), Monday through Friday, except Federal holidays.

B. Submitting Comments

The NRC encourages electronic comment submission through the Federal Rulemaking website: https://www.regulations.gov. Please include Docket ID NRC-2020-0256 in your comment submission.

The NRC cautions you not to include identifying or contact information that you do not want to be publicly disclosed in your comment submission. The NRC posts all comment submissions at https://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe methods that are acceptable to the NRC staff for implementing specific parts of the agency's regulations, to explain techniques that the staff uses in evaluating specific issues or postulated events, and to describe information that the staff needs in its review of applications for permits and licenses.

This DG, identified by its task number, DG-1288, titled, “Plant-Specific, Risk-Informed Decisionmaking for Inservice Inspections of Piping,” (ADAMS Accession No. ML20210M047) is a proposed Revision 2 of RG 1.178 This revision of RG 1.178 (Revision 2) describes an approach that is acceptable to the staff of the NRC for developing risk-informed inservice inspections of piping (RI-ISI) programs and supplements the guidance provided in RG 1.174, “An Approach for Using Probabilistic Risk Assessment in Risk-Informed Decisions on Plant-Specific Changes to the Licensing Basis.” It updates the defense-in-depth philosophy to be consistent with the philosophy described in RG 1.174. RG 1.174 was revised in 2018 to expand the meaning of, and the process for, assessing defense-in-depth considerations. Specifically, this revision of RG 1.178 references the defense-in-depth guidance in RG 1.174 in several staff regulatory positions.

Additionally, the NRC staff revised this guide to (1) update Section C.2.2, “Evaluation of Risk Impact,” of this RG to be consistent with Section C.2.3 in RG 1.174, which provides specific considerations with respect to determining the acceptability of the probabilistic risk assessment used in risk-informed decisionmaking, and (2) add the reference to ASME Code Case N-716-1, “Alternative Classification and Examination Requirements, Section XI, Division 1,” dated January 27, 2013, which describes an RI-ISI process as approved in RG 1.147.

A previous version of DG-1288 (ADAMS Accession No. ML12017A076) was issued for public comment on June 29, 2012 (77 FR 38856) under Docket ID NRC-2012-0110. The staff did not fully consider the public comments received at that time due to the extent of the changes for RG 1.174. However, the staff has reviewed and addressed some comments on this DG. Commenters on the previous version are encouraged to review and comment on this version.

The staff is also issuing for public comment a draft regulatory analysis (ADAMS Accession No. ML20210M044). The staff develops a regulatory analysis to assess the value of issuing or revising a regulatory guide as well as alternative courses of action.

III. Backfitting, Forward Fitting, and Issue Finality

DG-1288, if finalized, would revise RG 1.178, Revision 2, which describes methods acceptable to the NRC staff for complying with the NRC's regulations for developing RI-ISI programs and supplements the guidance provided in RG 1.174.

Issuance of DG-1288, if finalized, would not constitute backfitting as defined in section 50.109 of the Code of Federal Regulation (10 CFR), “Backfitting,” and as described in NRC Management Directive (MD) 8.4, “Management of Backfitting, Forward Fitting, Issue Finality, and Information Requests”; constitute forward fitting as that term is defined and described in MD 8.4; or affect the issue finality of any approval issued under 10 CFR part 52. As explained in DG-1288, applicants and licensees would not be required to comply with the positions set forth in DG-1288.

Dated: December 8, 2020.
For the Nuclear Regulatory Commission.
Meraj Rahimi,
Chief, Regulatory Guidance and Generic Issues Branch, Division of Engineering, Office of Nuclear Regulatory Research.

[FR Doc. 2020-27382 Filed 12-11-20; 8:45 am]

BILLING CODE 7590-01-P